DEPARTMENT OF EDUCATION

Improving Literacy Through School Libraries

AGENCY: Office of Elementary and Secondary Education, Department of Education.

ACTION: Notice of proposed priority.

SUMMARY: The Assistant Secretary for Elementary and Secondary Education proposes a priority under the Improving Literacy Through School Libraries Program. The Assistant Secretary may use this priority for competitions in fiscal year (FY) 2007 and later years. We take this action to allow for the best use of Federal funding to improve school library media centers in low-income communities. We intend for this priority to help strengthen the connection between school libraries and the instructional programs in these schools and districts.

DATES: We must receive your comments on or before January 19, 2007.

ADDRESSES: Address all comments about this proposed priority to Irene Harwarth, U.S. Department of Education, 400 Maryland Avenue, SW., room 3W227, Washington, DC 20202-6200. If you prefer to send your comments through the Internet, use the following address: lslcomments@ed.gov. You must include the term “Comments on FY 2007 LSL Priority” in the subject line of your electronic message.

FOR FURTHER INFORMATION CONTACT: Irene Harwarth at (202) 401-3751 or Miriam Lund at (202) 401-2871. If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding this proposed priority. We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this proposed priority in room 3W227, 400 Maryland Avenue, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact one of the persons listed under FOR FURTHER INFORMATION CONTACT.

General

The purpose of the Improving Literacy Through School Libraries Program is to improve student reading skills and academic achievement by providing students with increased access to up-to-date school library materials; well-equipped, technologically advanced school library media centers; and well-trained, professionally certified school library media specialists. Entities eligible for funding are local educational agencies (LEAs) in which 20 percent of the students served by the LEA are from families with incomes below the poverty line. These entities include public school districts, and may also include charter schools, regional service agencies, and State-administered schools that are considered public school districts by their State educational agency. Grantees use this funding to update their school library media center collections, improve technology and Internet access for their school library media centers, extend the hours of their school library media centers, and provide professional development for school library media specialists.

Background of the Priority

This program has been in existence for four years. Over this four-year period, we have found that the most successful projects are similar in the following two ways: (1) They have provided a comprehensive array of services (such as extended library hours and professional development); and (2) they have had significant support from principals, teachers, and parents.

Based on what we know to be successful practice, we seek to establish a priority that more closely links the proposed project to the school and district through alignment with a school or district improvement plan. We also intend that this priority will encourage applicants to offer a comprehensive array of allowable program services.

We will announce the final priority in a notice in the Federal Register. We will determine the final priority after considering responses to this notice and other information available to the Department. This notice does not preclude us from proposing or funding additional priorities, subject to meeting applicable rulemaking requirements.

Note: This notice does not solicit applications. In any year in which we choose to use this proposed priority, we invite applications through a notice in the Federal Register. When inviting applications we designate each priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority

Proposed Priority

Under this proposed priority, we would give priority to projects that demonstrate in their grant applications that the proposed literacy project services are comprehensive and aligned with a school or district improvement plan. A school improvement plan may include the required two-year plan (under section 1116(b)(3) of the Elementary and Secondary Education Act of 1965, as amended by the No Child Left Behind Act of 2001) that addresses the academic issues that caused a school to be identified as in need of improvement. The plan could also include a voluntary plan developed by the school or district to improve academic achievement. The applicant must clearly describe the improvement plan that is in place, whether it is for the school or the entire district, the reasons why the plan was put in place, and how the proposed project and the operation of the school library media center will directly support the academic goals established in the improvement plan.

Executive Order 12866

This notice of proposed priority has been reviewed in accordance with Executive Order 12866. Under the terms of the order, we have assessed the potential costs and benefits of this regulatory action.

The potential costs associated with the notice of proposed priority are those resulting from statutory requirements and those we have determined as necessary for administering this program effectively and efficiently.

In assessing the potential costs and benefits—both quantitative and qualitative—of this notice of proposed priority, we have determined that the benefits of the proposed priority justify the costs.

We have also determined that this regulatory action does not unduly interfere with State, local, and tribal governments in the exercise of their governmental functions.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Form (PDF) on the Internet at the following site: http://www.ed.gov/news/fedregister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.364A Improving Literacy Through School Libraries Program)

Program Authority: 20 U.S.C. 6383.

Dated: December 15, 2006.
Henry L. Johnson,
Assistant Secretary for Elementary and Secondary Education.

[FR Doc. E6-21754 Filed 12-19-06; 8:45 am]

BILLING CODE 4000-01-P